DEPARTMENT OF THE TREASURY

Internal Revenue Service

Recruitment Notice for the Taxpayer Advocacy Panel; Change

AGENCY: Internal Revenue Service (IRS), Treasury.

ACTION: Notice; change.

SUMMARY: The IRS published a document in the Federal Register on April 20, 2021 (86 FR 20611), correcting a Recruitment Notice for their Taxpayer Advocacy Panel. The IRS has a need for correction.

FOR FURTHER INFORMATION CONTACT: Lisa Billups at (214) 413-6523 (not a toll-free call).

SUPPLEMENTARY INFORMATION: Correction; In the Federal Register of April 20, 2021, in FR Doc. 2021-08030, on page 2061, in the first column, under the caption SUMMARY is corrected to read: SUMMARY: In the Federal Register notice that was originally published on April 20, 2021, (Volume 86, Number 74, Page 20611) the recruitment time-period was April 5, 2021 through May 14, 2021. The new time period is from April 5, 2021 through June 1, 2021. All other details remain unchanged.

Dated: May 14, 2021.
Kevin Brown,
Acting Director, Taxpayer Advocacy Panel.

[FR Doc. 2021-10546 Filed 5-18-21; 8:45 am]

BILLING CODE 4830-01-P